ENVIRONMENTAL PROTECTION AGENCY

40 CFR Part 52

[ME-003-01-7004b; A-1-FRL-6572-7]

Approval and Promulgation of Air Quality Implementation Plans; Maine; RACT for VOC sources

AGENCY: Environmental Protection Agency (EPA).

ACTION: Proposed rule.

SUMMARY: EPA is proposing to approve several State Implementation Plan (SIP) revisions submitted by the State of Maine. EPA is also proposing a limited approval of one regulation submitted as a SIP revision by the State of Maine. These SIP revisions establish requirements for certain facilities which emit volatile organic compounds (VOCs). In the Final Rules section of this Federal Register, EPA is approving these SIP revisions as a direct final rule without prior proposal because the Agency anticipates no adverse comments. A detailed rationale for the approval is set forth in the direct final rule. If no adverse comments are received in response to that direct final rule, no further activity is contemplated in relation to this proposed rule. If EPA receives adverse comments, the direct final rule will be withdrawn and all public comments received will be addressed in a subsequent final rule based on this proposed rule. EPA will not institute a second comment period on this proposal. Any parties interested in commenting on this proposal should do so at this time.

DATES: Comments must be received on or before May 18, 2000.

ADDRESSES: Comments may be mailed to David Conroy, Unit Manager, Air Quality Planning Unit (mail code CAQ), U.S. Environmental Protection Agency, Region I, One Congress Street, Suite 1100, Boston, MA 02114-2023. Copies of the State submittal and EPA's technical support document are available for public inspection during normal business hours, by appointment at the Office of Ecosystem Protection, U.S. Environmental Protection Agency, Region I, One Congress Street, 11th floor, Boston and the Bureau of Air Quality Control, Department of Environmental Protection, 71 Hospital Street, Augusta, ME 04333.

FOR FURTHER INFORMATION CONTACT: Anne E. Arnold, (617) 918-1047, arnold.anne@epa.gov.

SUPPLEMENTARY INFORMATION: For additional information, see the direct final rule which is located in the Rules section of this Federal Register.

Authority: 42 U.S.C. 7401 et seq.

Dated: March 24, 2000.
Mindy S. Lubber,
Regional Administrator, EPA New England.

[FR Doc. 00-9538 Filed 4-17-00; 8:45 am]

BILLING CODE 6560-50-P